NUCLEAR REGULATORY COMMISSION

[Docket No. 70-27]

Environmental Assessment and Finding of No Significant Impact for a License Amendment for BWX Technologies, Inc., Located in Lynchburg, VA

ACTION: Notice of Environmental Assessment (EA) and Finding of No Significant Impact (FONSI) for a license amendment.

FOR FURTHER INFORMATION CONTACT: Mr. Donald Stout, Fuel Cycle Facilities Branch, Division of Fuel Cycle Safety and Safeguards, U.S. Nuclear Regulatory Commission, Mail Stop T8-A33, Washington, DC 20555-0001, telephone: (301) 415-5269 and e-mail: des1@nrc.gov.

SUPPLEMENTARY INFORMATION:

I. Introduction

The U.S. Nuclear Regulatory Commission (NRC) is issuing an amendment to Special Nuclear Material License SNM-42 to exempt the licensee from the fissile material package standards for shipment of certain bulk materials (e.g., radwaste) containing low concentrations of uranium-235 contamination at the BWX Technologies (BWXT) facility located in Lynchburg, VA, to impose limits on these shipments.

The NRC has prepared an Environmental Assessment (EA) in support of this action in accordance with the requirements of 10 CFR part 51. Based on this evaluation, the NRC has concluded that a Finding of No Significant Impact (FONSI) is appropriate for the proposed licensing action.

II. Environmental Assessment

1.0 Background

The NRC staff has evaluated the environmental impacts of the exemption of BWXT from the fissile material package standards for shipment of certain bulk materials (e.g., radwaste) containing low concentrations of uranium-235 contamination, with limits placed on the shipments to ensure adequate controls for nuclear criticality safety. The purpose of this document is to assess the environmental consequences of the proposed license amendment.

The BWXT facility in Lynchburg, VA, is authorized under NRC Materials License SNM-42 to manufacture nuclear products utilizing Strategic Special Nuclear Material, specifically high-enriched uranium, and to receive, possess, use, store and transfer source material. These activities generate low-level radioactive waste (LLRW). Examples of this waste include, but are not limited to, filter cake solids, debris generated during plant renovation and/or decommissioning operations, and dry active waste that consists of paper, plastic, glass, gloves, dry filters, light metal, and other contaminated material.

On April 15, 2002, the Westinghouse facility in Hematite, MO (SNM-33), received a fissile material exemption for use in decommissioning the Hematite facility. Also, on January 2, 2003, the Westinghouse Commercial Nuclear Fuel Facility in Columbia, SC (SNM-1107) received the same exemption from fissile material classification and package standards listed in 10 CFR 71.55 and 71.59.

1.1 Review Scope

In accordance with 10 CFR part 51, this EA serves to: (1) Present information and analysis for determining whether to issue a FONSI or to prepare an Environmental Impact Statement (EIS); (2) fulfill the NRC's compliance with the NEPA when no EIS is necessary; and (3) facilitate preparation of an EIS when one is necessary. Should the NRC issue a FONSI, no EIS would be prepared and the license amendment would be granted.

This document serves to evaluate and document the impacts of the proposed action. Other activities on the site have previously been evaluated and documented in the 1991 EA for the Renewal of the NRC license for BWXT. The 1991 document is referenced when no significant changes have occurred. Besides the proposed licensing action, operations will continue to be limited to those authorized by the license.

1.2 Proposed Action

The proposed action is to amend NRC Materials License SNM-42 to exempt the licensee from the fissile material package standards for shipment of certain bulk materials containing low concentrations of uranium-235 contamination and to impose limiting conditions to ensure adequate controls for nuclear criticality safety. These materials would be exempt from fissile material classification and the fissile material package standards of 10 CFR 71.55 and 71.59, but subject to other requirements of 10 CFR part 71 and the further limiting conditions. A Safety Evaluation Report (SER) has been prepared by the NRC staff and contains a discussion of the safety considerations for approval of the amendment. The SER will be included in the license amendment when it is issued.

1.3 Need for Proposed Action

BWXT is currently manufacturing products for the Department of Energy and downblending high-enriched SNM to low-enriched SNM for commercial reactor use. It is requesting the exemption for transportation of LLRW generated during normal, routine operations. The reason for this request is to better utilize shipping containers.

On February 10, 1997, the NRC issued an emergency direct final rule (62 FR 5913) changing the fissile material exemption specifications of 10 CFR part 71. The revised rule limits the fissile-material mass in a consignment and restricts the presence of select moderators with very low neutron-absorption properties (i.e., special moderators). The net effect to BWXT has been an increase in the number of waste shipments and a corresponding increase in costs. Under part 71, BWXT is limited to 400 grams of U-235 per consignment.

BWXT must make many small LLRW shipments to comply with the current SNM limits. With this amendment, BWXT will be able to efficiently utilize the volume of strong-tight containers or intermodal containers, B-25 containers, etc; thus, shipping, in one shipment, LLRW that currently requires several shipments. Therefore, BWXT submitted this license amendment request for a specific exemption from the requirements of 10 CFR 71.55 and 71.59 for specified SNM shipments with greater than 400 grams U-235 per consignment.

1.4 Alternative to the Proposed Action

The NRC considered one alternative to the proposed activity which is to take no action (i.e., deny the exemption request).

2.0 Affected Environment

The affected environment for the proposed action would be the immediate vicinity of the vehicle used to transport the material to a licensed disposal facility.

The affected environment for no action is the BWXT site. A full description of the site and its characteristics is given in the 1991 EA for the Renewal of the NRC license for BWXT. The BWXT facility is located on a 525 acre site in Campbell County, VA, approximately 5 miles east of Lynchburg, VA.

3.0 Environmental Impacts of Proposed Action and Alternatives

3.1 Occupational and Public Health

Proposed Action. The risk to human health from the transportation of all radioactive material in the U.S. was evaluated in the Final Environmental Impact Statement on the Transportation of Radioactive Material by Air and Other Modes (NRC, 1977). The principal radiological environmental impact during normal transportation is direct radiation exposure to nearby persons from radioactive material in the package. The average annual individual dose from all radioactive material transportation in the U.S. was calculated to be approximately 0.5 mrem, well below the 10 CFR part 20 requirement of 100 mrem for a member of the public. The proposed action would result in fewer shipments. Fewer shipments would expose fewer members of the public to radiation, reduce nonradiological truck emissions, and reduce the risk of injuries from traffic accidents. However, the reductions would be so small that the differences would be negligible.

Occupational health was also considered in the Final Environmental Impact Statement on the Transportation of Radioactive Material by Air and Other Modes (NRC, 1977). The average annual occupational dose to the driver(s) is estimated to be 8.7 mSv (870 mrem), which is below the 10 CFR part 20 requirement of 50 mSv (5000 mrem). The Department of Transportation (DOT) regulations in 49 CFR 177.842(g) require that the radiation dose rate may not exceed 0.02 mSv (2 mrem) per hour in any position normally occupied in a motor vehicle. The proposed action would not cause dose rates to the driver exceeding the DOT limit.

The NRC staff evaluated the possibility of a criticality accident due to transportation of this material. Based on the statements and representations in the application, the staff concluded that limiting the contents as described in the application will provide adequate assurance that an inadvertent criticality cannot occur if the materials are exempt from the fissile material classification and fissile material package standards of 10 CFR 71.55 and 71.59. A detailed discussion of this analysis can be found in the Safety Evaluation Report for this amendment.

Under the proposed action, the doses to the public and to the workers are not increased beyond those considered in the Final Environmental Impact Statement on the Transportation of Radioactive Material by Air and Other Modes (NRC, 1977). Therefore, shipment of these materials as proposed would be consistent with the assessment of environmental impacts and the conclusions in the Final Environmental Impact Statement on the Transportation of Radioactive Material by Air and Other Modes (NRC, 1977).

No Action. Denying this amendment request would not result in any significant difference in the risk to the public health from radiological materials. If this amendment request is denied, the licensee would be required to ship the contaminated waste more frequently in smaller containers. The larger number of shipments also is consistent with the assessment of environmental impacts and the conclusions in the Final Environmental Impact Statement on the Transportation of Radioactive Material by Air and Other Modes (NRC, 1977). As noted above, the level of nonradiological truck emissions and the risk of injuries from traffic accidents would be higher, but the differences would be negligible.

The occupational health impacts would not change significantly as a result of denial of this amendment request. Occupational doses at the facility may be slightly higher as a result of the larger number of packages that workers must prepare and handle; however, the facility will continue to implement NRC-approved, radiation safety procedures for handling radioactive materials. Thus, the dose to workers under the no action alternative will remain within acceptable regulatory limits.

3.2 Effluent Releases, Environmental Monitoring, Water Resources, Geology, Soils, Air Quality, Demography, Biota, Cultural and Historic Resources

Proposed Action. The NRC staff has determined that the approval of the proposed amendment will not impact effluent releases, environmental monitoring, water resources, geology, soils, air quality, demography, biota, or cultural or historic resources under normal transport conditions.

No Action. The NRC staff has determined that denial of the proposed amendment will not impact effluent releases, environmental monitoring, water resources, geology, soils, air quality, demography, biota, or cultural or historic resources at or near the BWXT site.

3.3 Conclusions

Based on its review, the NRC staff has concluded that the environmental impacts associated with the proposed action are not significant and, therefore, do not warrant denial of the license amendment request. The staff has determined that the proposed action, approval of the license amendment request as submitted, is the appropriate alternative for selection. Based on an evaluation of the environmental impacts of the amendment request, the NRC has determined that the proper action is to issue a FONSI in the Federal Register, and grant the amendment.

4.0 Agencies and Persons Contacted

During a September 10, 2003, telephone call with the Virginia Department of Environmental Quality (VDEQ), NRC staff confirmed that the proposed action would not affect the regulation in 10 CFR 70.42 requiring BWXT to verify that waste disposal facilities are authorized to receive their shipments. VDEQ had no comments or concerns with the proposed action.

Because the proposed action is entirely within existing facilities and established roadways, the NRC has concluded that there is no potential to affect endangered species or historic resources, and therefore consultation with the State Historic Preservation Society and the U.S. Fish and Wildlife Service was not necessary.

5.0 References

U.S. Nuclear Regulatory Commission (NRC), December 1977, “Final Environmental Impact Statement on the Transportation of Radioactive Material by Air and Other Modes.”

U.S. Nuclear Regulatory Commission (NRC), June 1995, “Environmental Assessment for Renewal of Special Nuclear Material License SNM-42.”

U.S. Nuclear Regulatory Commission (NRC), January 2003, “Westinghouse Electric Company, LLC, Amendment 35—Approval of Exemption from Fissile Material Transport Classification and Package Standards,” ADAMS No. ML030080034.

III. Finding of No Significant Impact

The Commission has prepared the above Environmental Assessment related to the amendment of Special Nuclear Material License SNM-42. On the basis of the assessment, the Commission has concluded that environmental impacts associated with the proposed action would not be significant and, therefore, do not warrant the preparation of an Environmental Impact Statement. It has been determined that a Finding of No Significant Impact is appropriate.

IV. Further Information

In accordance with 10 CFR 2.790 of the NRC's “Rules of Practice,” the Environmental Assessment and the documents related to this proposed action will be available electronically for public inspection from the Publicly Available Records (PARS) component of NRC's document system (ADAMS). ADAMS is accessible from the NRC Web site at http://www.nrc.gov/reading-rm/adams.html.

Dated at Rockville, Maryland, this 17th day of November, 2003.
For the Nuclear Regulatory Commission.
John W. Lubinski,
Chief, Fuel Manufacturing Section, Fuel Cycle Facilities Branch, Division of Fuel Cycle Safety and Safeguards, Office of Nuclear Material Safety and Safeguards.

[FR Doc. 03-29247 Filed 11-21-03; 8:45 am]

BILLING CODE 7590-01-P